DEPARTMENT OF LABOR

Occupational Safety and Health Administration

29 CFR Part 1926

[Docket No. S-030]

RIN 1218-AC01

Safety Standards for Cranes and Derricks

AGENCY: Occupational Safety and Health Administration (OSHA), U.S. Department of Labor.

ACTION: Notice of Negotiated Rulemaking Committee meetings.

SUMMARY: The Occupational Safety and Health Administration (OSHA) announces the eighth and ninth meetings of the Crane and Derrick Negotiated Rulemaking Advisory Committee (C-DAC). The Committee will review summary notes of the prior meeting, review draft regulatory text and continue to address substantive issues. The meeting will be open to the public.

DATES: The meetings will be on March 3, 4, and 5, 2004, and March 29, 30, and 31, 2004. The March 3, 4, and 5 meeting will begin each day at 8:30 a.m. The March 29, 30, and 31 meeting will begin each day at 8:30 a.m. Each C-DAC meeting is expected to last two and a half days. Individuals with disabilities wishing to attend should contact Luz Dela Cruz by telephone at 202-693-2020 or by fax at 202-693-1689 to obtain appropriate accommodations no later than Friday, February 20, 2004.

ADDRESSES: The March 3, 4, and 5 meeting will be held at the U.S. Department of Labor, 200 Constitution Avenue, NW., Washington, DC 20210 in conference room N-3437 A, B, C. The March 29, 30, and 31 meeting will be held at the U.S. Department of Labor, 200 Constitution Avenue, NW., Washington, DC 20210 in conference room N-4437 B, C, D.

Written comments to the Committee may be submitted in any of three ways: by mail, by fax, or by email. Please include “Docket No. S-030” on all submissions.

By mail: Submit three (3) copies to: OSHA Docket Office, Docket No. S-030, U.S. Department of Labor, 200 Constitution Avenue, NW., Room N-2625, Washington, DC 20210, telephone (202) 693-2350. Note that receipt of comments submitted by mail may be delayed by several weeks.

By fax: Written comments that are 10 pages or fewer may be transmitted to the OSHA Docket Office at fax number (202) 693-1648.

Electronically: Comments may be submitted through OSHA's Web page at http://ecomments.osha.gov. Please note that you may not attach materials such as studies or journal articles to your electronic comments. If you wish to include such materials, you must submit three copies to the OSHA Docket Office at the address listed above. When submitting such materials to the OSHA Docket Office, clearly identify your electronic comments by name, date, subject, and Docket Number, so that we can attach the materials to your electronic comments.

FOR FURTHER INFORMATION CONTACT: Michael Buchet, Office of Construction Standards and Guidance, Occupational Safety and Health Administration, U.S. Department of Labor, Room N-3468, 200 Constitution Avenue, NW., Washington, DC 20210; telephone: (202) 693-2345.

SUPPLEMENTARY INFORMATION:

I. Background

On July 16, 2002, OSHA published a notice of intent to establish a negotiated rulemaking committee to improve crane and derrick safety in construction, requested comments and nominations for membership (volume 67 of the Federal Register, page 46612). In subsequent notices the Department of Labor announced the establishment of the Committee (volume 68 of the Federal Register, page 35172, June 12, 2003), requested comments on a list of proposed members (68 FR 9036, February 27, 2003), published a final membership list (68 FR 39877, July 3, 2003), and announced the first meeting (68 FR 39880, July 3, 2003), which was held July 30—August 1, 2003. The Agency published notices announcing the subsequent meetings.

II. Agenda

The Committee will review draft materials prepared by the Agency based on CDAC discussions at prior meetings, and will address additional issues. While the pace of the discussion varies, OSHA anticipates that CDAC will be discussing several items from the “Anticipated Key Issues for Negotiation” list at both March meetings. At the March 3, 4, and 5 meeting, in addition to key issues from the list, the Agency anticipates the committee will be discussing Safety Devices and Operational Aids (fail safe warnings, secondary brake systems and others). At the March 29, 30, and 31 meeting the Agency anticipates that the committee will be discussing limited requirements for cranes with a rated capacity of 2,000 pounds or less as well as continuing its discussions of key issues from the list.

III. Anticipated Key Issues for Negotiation

OSHA anticipates that CDAC will continue discussing key issues from the following list in upcoming meetings:

1. Scope;

2. Definitions;

3. Assembly & Disassembly (including reeving/rigging);

4. Operation Procedures;

5. Signals;

6. Personnel Qualifications, Training & Testing;

7. Inspections;

8. Modifications;

9. Keeping Clear of the Load;

10. Fall Protection;

a. Ladder access and cat walks;

b. Fall arrest;

11. Hoisting Personnel;

12. Machine Guarding;

13. Qualifications of Maintenance & Repair Workers;

14. Work Zone Control;

15. Wire Rope;

16. Responsibility for environmental considerations, site conditions and ground conditions;

17. Operating near Power Lines;

18. Derricks;

19. Free Fall/Power Down;

20. Critical Lifts and Engineered Lifts;

21. Signals (standard methods) “ B30. 5;

22. Verification criteria for structural adequacy of crane components and stability testing requirements;

23. Overhead & Gantry Cranes;

24. Floating Cranes, Cranes on Barges;

25. Safety Devices: fail-safe, warning, secondary brake system, and other safety-related devices/technology;

26. Tower Cranes;

27. Operator Cab Criteria (roll over, visibility, overhead protection);

28. Limited Requirements for cranes with a rated capacity of 2,000 pounds or less.

IV. Public Participation

All interested parties are invited to attend these public meetings at the times and places indicated above. Note, however, that a government issued photo ID card (State or Federal) is required for entry into the Department of Labor building. No advance registration is required. The public must enter the Department of Labor for the meeting through the 3rd and C Street, NW., entrance. Seating will be available to the public on a first-come, first-served basis. Individuals with disabilities wishing to attend should contact Luz Dela Cruz by telephone at 202-693-2020 or by fax at 202-693-1689 to obtain appropriate accommodations no later than Friday, February 20, 2003. Each C-DAC meeting is expected to last two and a half days.

In addition, members of the general public may request an opportunity to make oral presentations to the Committee. The Facilitator has the authority to decide to what extent oral presentations by members of the public may be permitted at the meeting. Oral presentations will be limited to statements of fact and views, and shall not include any questioning of the committee members or other participants.

Minutes of the meetings and materials prepared for the Committee will be available for public inspection at the OSHA Docket Office, Room N-2625, 200 Constitution Ave., NW., Washington, DC 20210; telephone (202) 693-2350. Minutes will also be available on the OSHA Docket Web page: http://dockets.osha.gov/.

The Facilitator, Susan Podziba, can be reached at Susan Podziba and Associates, 21 Orchard Road, Brookline, MA 02445; telephone (617) 738 5320, fax (617) 738-6911.

Signed in Washington, DC this 9th day of February, 2004.
John L. Henshaw,
Assistant Secretary of Labor for Occupational Safety and Health.

[FR Doc. 04-3183 Filed 2-12-04; 8:45 am]

BILLING CODE 4510-26-P